DEPARTMENT OF HEALTH AND HUMAN SERVICES

Agency for Toxic Substances and Disease Registry

[ATSDR-176]

Notice of the Revised Priority List of Hazardous Substances That Will Be the Subject of Toxicological Profiles; Correction

A notice announcing the availability of the Revised CERCLA Priority List of 275 Hazardous Substances based on the most recent information available to ATSDR and EPA was published in the Federal Register on October 25, 2001, (66 FR 54014). This notice is corrected as follows:

On page 54014, in the third column, under the heading of:

ADDRESSES, the website for the 2001 Priority List of Hazardous Substances should read: http://www.atsdr.cdc.gov/clist.html. On page 54015, in the first column, also under the heading of:

ADDRESSES, the website for the CEP Report should read: http://www.atsdr.cdc.gov/cep.html.

All other information and requirements of the October 25, 2001, notice remain the same.

Dated: November 29, 2001.
Georgi Jones,
Director, Office of Policy and External Affairs, Agency for Toxic Substances and Disease Registry.

[FR Doc. 01-30078 Filed 12-4-01; 8:45 am]

BILLING CODE 4163-70-P